DEPARTMENT OF THE INTERIOR

Fish and Wildlife Service

[FWS-HQ-IA-2014-N039; FXIA16710900000-145-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before April 3, 2014.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: San Francisco Zoological Society, San Francisco, CA; PRT-675220

The applicant requests renewal of their captive-bred wildlife registration under 50 CFR 17.21(g) for the following families and species, to enhance the species' propagation or survival. This notification covers activities to be conducted by the applicant over a 5-year period.

Family:

Canidae

Cercopithecidae

Felidae

Hylobatidae

Lemuridae

Rhinocerotidae

Tapiridae

Applicant: Triple D Game Farm, Kalispell, MT; PRT-812816

The applicant requests renewal of their captive-bred wildlife registration under 50 CFR 17.21(g) for the snow leopard (Panthera uncia), and Amur leopard (Panthera pardus orientalis) to enhance the species' propagation or survival. This notification covers activities to be conducted by the applicant over a 5-year period.

Applicant: Sacramento Zoo, Sacramento, CA; PRT-677611

The applicant requests renewal of their captive-bred wildlife registration under 50 CFR 17.21(g) for the following families, genera and species, to enhance the species' propagation or survival. This notification covers activities to be conducted by the applicant over a 5-year period.

Family:

Anatidae

Bovidae

Cercopithecidae

Cervidae

Equidae

Felidae (does not include jaguar, margay or ocelot)

Hominidae

Hylobatidae

Lemuridae

Bucerotidae

Cracidae

Psittacidae (does not include thick-billed parrot)

Sturnidae (does not include Aplonis pelzelni)

Boidae (does not include Puerto Rico or Mona boa)

Testudinidae

Genus:

Tragopan

Species:

Asian Elephant (Elephas maximus)

Applicant: Fort Worth Zoo, Fort Worth, TX; PRT-677952

The applicant requests renewal of their captive-bred wildlife registration under 50 CFR 17.21(g) for the following families, and species, to enhance the species' propagation or survival. This notification covers activities to be conducted by the applicant over a 5-year period.

Family:

Cebidae

Cercopithecidae

Elephantidae

Felidae (does not include jaguar, margay or ocelot)

Hominidae

Hylobatidae

Lemuridae

Macropodidae

Rhinocerotidae

Gruidae

Psittacidae (does not include thick-billed parrots)

Rheidae

Sturnidae (does not include Aplonis pelzelni)

Crocodylidae (does not include American crocodile)

Iguanidae

Varanidae

Osteoglossidae

Species:

Koala (Phascolarctos cinereus)

Lowland anoa (Bubalus depressicornis)

Applicant: Southwick Wild Animal Farm, Inc. dba Southwick's Zoo, Mendon, MA; PRT-26116B

The applicant requests a captive-bred wildlife registration under 50 CFR 17.21(g) to include the following species, to enhance the species' propagation or survival. This notification covers activities to be conducted by the applicant over a 5-year period.

Species:

Galapagos tortoise (Chelonoidis nigra)

Radiated tortoise (Astrochelys radiata)

Spotted pond turtle (Geoclemys hamiltonii)

Blyth's tragopan (Tragopan blythii)

Cabot's tragopan (Tragopan caboti)

Golden parakeet (Guarouba guarouba)

Salmon-crested cockatoo (Cacatua moluccensis)

Cuban parrot (Amazon leucocephala)

Bali starling (Leucopsar rothschildi)

Ring-tailed lemur (Lemur catta)

Black and white ruffed lemur (Varecia variegata)

Red ruffed lemur (Varecia rubra)

Brown lemur (Eulemur fulvus)

Cotton-top tamarin (Saguinus oedipus)

Diana monkey (Cercopithecus diana)

Mandrill (Mandrillus sphinx)

Lar gibbon (Hylobates lar)

Leopard (Panthera pardus)

Cheetah (Acinonyx jubatus)

Addax (Addax nasomaculatus)

Red lechwe (Kobus leche)

Applicant: Martin Dieck, Palo Alto, CA; PRT-25039B

The applicant requests a captive-bred wildlife registration under 50 CFR 17.21(g) to include the Galapagos tortoise (Chelonoidis nigra) to enhance the species' propagation or survival. This notification covers activities to be conducted by the applicant over a 5-year period.

Applicant: Western Foundation of Vertebrate Zoology, Camarillo, CA; PRT-695190

The applicant requests renewal of their permit to export and re-import non-living museum specimens of endangered and threatened species (excluding bald eagles) previously legally accessioned into the permittee's collection for the purpose of scientific research. This notification covers activities conducted by the applicant for a 5-year period.

Multiple Applicants

The following applicants each request a permit to import the sport-hunted trophy of one male bontebok (Damaliscus pygargus pygargus) culled from a captive herd maintained under the management program of the Republic of South Africa, for the purpose of enhancement of the survival of the species.

Applicant: Jackson Cox, Ruston, LA; PRT-26782B

Applicant: Thomas Roles, Prior Lake, MN; PRT-21783B

Applicant: Mike Williams; Boerne, TX; PRT-19248B

Applicant: Steven Faler, Fort Collins, CO; PRT-21483B

Applicant: Doyle Graham, Houston, TX; PRT-28148B

Applicant: Jeffrey Powell, Salt Lake City, UT; PRT-28634B

Brenda Tapia,
Program Analyst/Data Administrator, Branch of Permits, Division of Management Authority.

[FR Doc. 2014-04650 Filed 3-3-14; 8:45 am]

BILLING CODE 4310-55-P